FEDERAL MARITIME COMMISSION

Notice of Agreement Filed

The Commission hereby gives notice of the filing of the following agreement under the Shipping Act of 1984. Interested parties may submit comments, relevant information, or documents regarding the agreement to the Secretary by email at Secretary@fmc.gov, or by mail, Federal Maritime Commission, Washington, DC 20573. Comments will be most helpful to the Commission if received within 12 days of the date this notice appears in the Federal Register. Copies of agreement are available through the Commission's website (www.fmc.gov) or by contacting the Office of Agreements at (202) 523-5793 or tradeanalysis@fmc.gov.

Agreement No.: 012246-001.

Agreement Name: EUKOR/Mitsui O.S.K. Lines, Ltd. Space Charter Agreement.

Parties: EUKOR Car Carriers, Inc.; and Mitsui O.S.K. Lines, Ltd.

Filing Party: Rebecca Fenneman; Jeffrey/Fenneman Law and Strategy PLLC.

Synopsis: The amendment would update EUKOR's address and remove all authority for the parties to jointly negotiate or procure terminal services in the United States.

Proposed Effective Date: 12/24/2021.

Location: https://www2.fmc.gov/FMC.Agreements.Web/Public/AgreementHistory/303.

Agreement No.: 201333-002.

Agreement Name: North Carolina-Virginia Port Terminal Cooperative Working Agreement.

Parties: North Carolina State Ports Authority; Virginia International Terminals, LLC; and Virginia Port Authority.

Filing Party: David Monroe; GKG Law, P.C.

Synopsis: The amendment extends the duration of the Agreement through December 31, 2022.

Proposed Effective Date: 12/25/2021.

Location: https://www2.fmc.gov/FMC.Agreements.Web/Public/AgreementHistory/27474.

Dated: November 18, 2021.
Rachel E. Dickon,
Secretary.

[FR Doc. 2021-25520 Filed 11-22-21; 8:45 am]

BILLING CODE 6730-02-P